Title 3—

The President

Proclamation 9190 of October 10, 2014

National School Lunch Week, 2014

By the President of the United States of America

A Proclamation

Ensuring access to balanced, healthy meals for all young people is essential to their success, and it is our responsibility as a Nation. Today, more than 30 million children depend on the National School Lunch Program for daily nutrition, and more than 13 million children are able to start their school day with a full stomach because of the School Breakfast Program. For many young people, these programs are the only regular source of food. That is why it is more important than ever to strengthen them and make sure they are supporting healthy lifestyles in classrooms across America. During National School Lunch Week, we encourage schools to expand access to nutritious food options, and we salute all those who work in our Nation's school cafeterias and food preparation centers. Every day they provide essential meals to America's students, contributing to their well-being and helping make sure they can fulfill their potential.

In 1946, President Harry Truman signed the National School Lunch Act, which provided meals for over 7 million children in its first year. Since then, more than 220 billion lunches have been served, and my Administration is proud to continue building on this legacy—not just by increasing access to breakfasts and lunches, but also by working to improve their quality and nutritional value. When more than one-third of American children and adolescents are overweight or obese—and as a result, are at risk for conditions like high blood pressure, high cholesterol, and Type 2 diabetes—ensuring access to healthy foods at schools helps support academic performance and improves children's overall health.

In 2010, I signed the Healthy, Hunger-Free Kids Act in order to raise nutritional standards and expand access to healthy meals. This year—in many of the more than 22,000 eligible schools across our country—educators and food service professionals are able to serve all their students free, nutritious breakfasts and lunches. Students now have more opportunities to eat healthy foods than ever before, including new options in vending machines and a la carte lines. And First Lady Michelle Obama's Let's Move! initiative has brought communities, schools, and elected officials together to promote nutrition and healthy lifestyles and empower children to make healthy choices in school and at home.

By expanding access to nutritious meals, we can help put young people on the path to good health from their earliest days. When we provide our children with opportunities to live prosperous and productive lives, we build a Nation where all kids can reach their dreams and achieve the bright futures they deserve.

The Congress, by joint resolution of October 9, 1962 (Public Law 87-780), as amended, has designated the week beginning on the second Sunday in October each year as “National School Lunch Week” and has requested the President to issue a proclamation in observance of this week.

NOW, THEREFORE, I, BARACK OBAMA, President of the United States of America, do hereby proclaim the week of October 12 through October 18, 2014, as National School Lunch Week. I call upon all Americans to join the dedicated individuals who administer the National School Lunch Program in appropriate activities that support the health and well-being of our Nation's children.

IN WITNESS WHEREOF, I have hereunto set my hand this tenth day of October, in the year of our Lord two thousand fourteen, and of the Independence of the United States of America the two hundred and thirty-ninth.

[FR Doc. 2014-24844

Filed 10-16-14; 8:45 am]

Billing code 3295-F5